DEPARTMENT OF ENERGY

Federal Energy Regulatory Commission

[Project No. 15230-002]

Pike Island Hydropower Corporation; Notice of Revised Comment Period for Soliciting Motions To Intervene and Protests

On January 16, 2025, the Commission issued a “Notice of Application Accepted for Filing and Soliciting Motions to Intervene and Protests” (Notice) for the Pike Island Hydroelectric Project (P-15230). The Notice set a deadline of 60 days for filing motions to intervene and protests. Pursuant to 18 CFR 4.32(d)(2), Commission staff submitted the Notice to a local newspaper for publication. Subsequently, Commission staff was notified by the newspaper that the Notice was not published due to a system error. Therefore, the deadline for filing motions to intervene and protests is extended to 60 days from the issuance of this notice, or June 30, 2025. The January 16, 2025, Notice provides additional information on the project and on the process for filing motions to intervene and protests. It can be reviewed at: https://elibrary.ferc.gov/eLibrary/filelist?accession_number=20250116-3027&optimized=false.

Questions should be directed to Colleen Corballis, Project Coordinator, Midwest Branch, Division of Hydropower Licensing; telephone at (202) 502-8598; email at colleen.corballis@ferc.gov.

Dated: May 2, 2025.
Carlos D. Clay,
Deputy Secretary.

[FR Doc. 2025-07956 Filed 5-6-25; 8:45 am]

BILLING CODE 6717-01-P